DEPARTMENT OF ENERGY

Federal Energy Regulatory Commission

Combined Notice of Filings #1

Take notice that the Commission received the following electric corporate filings:

Docket Numbers: EC22-81-000.

Applicants: White Creek Wind I, LLC.

Description: Application for Authorization Under Section 203 of the Federal Power Act of White Creek Wind I, LLC.

Filed Date: 6/24/22.

Accession Number: 20220624-5183.

Comment Date: 5 p.m. ET 7/15/22.

Docket Numbers: EC22-82-000.

Applicants: AMPCI North America Thermal Power Acquisition LLC.

Description: Joint Application for Authorization Under Section 203 of the Federal Power Act of AMPCI North America Thermal Power Acquisition LLC, et al.

Filed Date: 6/27/22.

Accession Number: 20220627-5112.

Comment Date: 5 p.m. ET 7/18/22.

Take notice that the Commission received the following electric rate filings:

Docket Numbers: ER20-1837-005.

Applicants: Duke Energy Carolinas, LLC, Duke Energy Florida, LLC, Duke Energy Progress, LLC.

Description: Compliance filing: Duke Energy Florida, LLC submits tariff filing per 35: Order No. 864 Second Compliance Filing to be effective 1/27/2020.

Filed Date: 6/27/22.

Accession Number: 20220627-5115.

Comment Date: 5 p.m. ET 7/18/22.

Docket Numbers: ER20-1948-002.

Applicants: Potomac-Appalachian Highline Transmission, LLC, PJM Interconnection, L.L.C.

Description: Compliance filing: Potomac-Appalachian Highline Transmission, LLC submits tariff filing per 35: PATH submits further Compliance Filing in ER20-1948 to be effective 1/27/2020.

Filed Date: 6/27/22.

Accession Number: 20220627-5124.

Comment Date: 5 p.m. ET 7/18/22.

Docket Numbers: ER21-2521-003.

Applicants: Broadlands Wind Farm LLC.

Description: Compliance filing: Compliance Filing.

Filed Date: 6/27/22.

Accession Number: 20220627-5079.

Comment Date: 5 p.m. ET 7/18/22.

Docket Numbers: ER22-1141-000.

Applicants: Black Hills Colorado Electric, LLC.

Description: Refund Report: Refund Report to be effective N/A.

Filed Date: 6/27/22.

Accession Number: 20220627-5101.

Comment Date: 5 p.m. ET 7/18/22.

Docket Numbers: ER22-1590-001.

Applicants: El Paso Electric Company.

Description: Tariff Amendment: El Paso Electric Company's Response to May 27, 2022 Order to be effective 6/6/2022.

Filed Date: 6/27/22.

Accession Number: 20220627-5137.

Comment Date: 5 p.m. ET 7/18/22.

Docket Numbers: ER22-1593-001.

Applicants: AEP Texas Inc.

Description: Tariff Amendment: AEPTX-Lunis Creek Solar 1st A&R Gen Interconnection Agr—Amend Pending to be effective 3/28/2022.

Filed Date: 6/27/22.

Accession Number: 20220627-5120.

Comment Date: 5 p.m. ET 7/18/22.

Docket Numbers: ER22-1728-001.

Applicants: Basin Electric Power Cooperative.

Description: Tariff Amendment: Amendment to Extend Time for Action on Revised Wholesale Power Contract to be effective 3/24/2022.

Filed Date: 6/27/22.

Accession Number: 20220627-5127.

Comment Date: 5 p.m. ET 6/28/22.

Docket Numbers: ER22-2097-000.

Applicants: Southern California Edison Company.

Description: Filing Withdrawal: Request to Withdraw Filing-Proceeding, Supp. re Catalina 2nd Amend (ER22-2097) to be effective N/A.

Filed Date: 6/22/22.

Accession Number: 20220622-5046.

Comment Date: 5 p.m. ET 7/5/22.

Docket Numbers: ER22-2195-000.

Applicants: PJM Interconnection, L.L.C.

Description: § 205(d) Rate Filing: Original ISA No. 6508; Queue No. AE2-121 to be effective 5/27/2022.

Filed Date: 6/27/22.

Accession Number: 20220627-5055.

Comment Date: 5 p.m. ET 7/18/22.

Docket Numbers: ER22-2196-000.

Applicants: Mid-Atlantic Interstate Transmission, LLC, PJM Interconnection, L.L.C.

Description: § 205(d) Rate Filing: Mid-Atlantic Interstate Transmission, LLC submits tariff filing per 35.13(a)(2)(iii: Mid-Atlantic Interstate Transmission submits Revised IA SA No. 4577 to be effective 8/27/2022.

Filed Date: 6/27/22.

Accession Number: 20220627-5075.

Comment Date: 5 p.m. ET 7/18/22.

Docket Numbers: ER22-2197-000.

Applicants: Alabama Power Company, Georgia Power Company, Mississippi Power Company.

Description: § 205(d) Rate Filing: Alabama Power Company submits tariff filing per 35.13(a)(2)(iii: Origis Develop.m.ent (AL B Solar + Storage) LGIA Filing to be effective 6/15/2022.

Filed Date: 6/27/22.

Accession Number: 20220627-5076.

Comment Date: 5 p.m. ET 7/18/22.

Docket Numbers: ER22-2198-000

Applicants: Alabama Power Company, Georgia Power Company, Mississippi Power Company

Description: § 205(d) Rate Filing: Alabama Power Company submits tariff filing per 35.13(a)(2)(iii: Origis Develop.m.ent (4 Notch Solar + Storage) LGIA Filing to be effective 6/15/2022.

Filed Date: 6/27/22.

Accession Number: 20220627-5078.

Comment Date: 5 p.m. ET 7/18/22.

Docket Numbers: ER22-2199-000.

Applicants: Alabama Power Company, Georgia Power Company, Mississippi Power Company.

Description: § 205(d) Rate Filing: Alabama Power Company submits tariff filing per 35.13(a)(2)(iii: Origis Develop.m.ent (5 Notch Solar + Storage) LGIA Filing to be effective 6/15/2022.

Filed Date: 6/27/22.

Accession Number: 20220627-5080.

Comment Date: 5 p.m. ET 7/18/22.

Docket Numbers: ER22-2200-000.

Applicants: Atlantic City Electric Company, PJM Interconnection, L.L.C.

Description: § 205(d) Rate Filing: Atlantic City Electric Company submits tariff filing per 35.13(a)(2)(iii: ACE Single Issue Depreciation Filing to update Attachment H-1A to be effective 9/1/2022.

Filed Date: 6/27/22.

Accession Number: 20220627-5102.

Comment Date: 5 p.m. ET 7/18/22.

Docket Numbers: ER22-2201-000.

Applicants: Delmarva Power & Light Company, PJM Interconnection, L.L.C.

Description: § 205(d) Rate Filing: Delmarva Power & Light Company submits tariff filing per 35.13(a)(2)(iii: Delmarva Single Issue Depreciation Filing to update Attachment H-3D to be effective 9/1/2022.

Filed Date: 6/27/22.

Accession Number: 20220627-5103.

Comment Date: 5 p.m. ET 7/18/22.

Docket Numbers: ER22-2202-000.

Applicants: Midcontinent Independent System Operator, Inc., Entergy Services, LLC.

Description: Compliance filing: Midcontinent Independent System Operator, Inc. submits tariff filing per 35: 2022-06-27_Entergy Operating Companies Depreciation Settlement Filing to be effective 1/1/2021.

Filed Date: 6/27/22.

Accession Number: 20220627-5111.

Comment Date: 5 p.m. ET 7/18/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2022.
Debbie-Anne A. Reese,
Deputy Secretary.

[FR Doc. 2022-14166 Filed 7-1-22; 8:45 am]

BILLING CODE 6717-01-P